TENNESSEE VALLEY AUTHORITY

Meeting of the Regional Energy Resource Council

AGENCY: Tennessee Valley Authority (TVA).

ACTION: Notice of meeting.

SUMMARY: The TVA Regional Energy Resource Council (RERC) will hold a meeting on October 3, 2024, to receive an update and discuss the September publication and results of TVA's Draft 2025 Integrated Resource Plan (IRP) and associated Draft Environmental Impact Statement (EIS). The IRP provides strategic direction on how TVA will continue to provide low-cost, reliable, resilient, and increasingly cleaner electricity to the 10 million residents of the Valley region. The RERC will also receive an update on TVA's Innovation Research efforts.

DATES: The meeting will be held in Chattanooga, Tennessee, at The Westin Chattanooga on Thursday, October 3, 2024, from 9:00 a.m. to 3:30 p.m. ET. RERC members are invited to attend the meeting in person. The public is invited to view the meeting virtually or attend in person. A one-hour public listening session for the public to present comments virtually or in person will be held October 3, 2024, at 1:00 p.m. ET. A link and instructions to view the meeting will be posted on TVA's RERC website at www.tva.com/rerc prior to the meeting.

ADDRESSES: The meeting will take place at The Westin Chattanooga at 801 Pine St., Chattanooga, TN 37402. The meeting will also be available virtually to the public. Instructions to view the meeting will be posted at www.tva.com/rerc prior to the meeting. Persons who wish to speak virtually during the public listening session must pre-register by 5:00 p.m. ET Monday, September 30, 2024, by emailing bhaliti@tva.gov. Persons wishing to speak in person are requested to register either at the door between 9:00 a.m. and 10:30 a.m. ET on Thursday, October 3, 2024, or in advance by emailing bhaliti@tva.gov. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

October 3

1. Welcome and Introductions

2. RERC and TVA Meeting Update

3. Integrated Resource Plan Updates

4. Public Listening Session

5. Innovation Research Update

The RERC will hear views of citizens by providing a one-hour public comment session starting October 3 at 1:00 p.m. ET. Persons wishing to speak virtually must register by sending an email to bhaliti@tva.gov or by calling 931-349-1894 by 5:00 p.m. ET, on Monday, September 30, 2024. Persons wishing to speak in person are requested to register either at the door between 9:00 a.m. and 10:30 a.m. ET on Thursday, October 3, 2024, or in advance by emailing bhaliti@tva.gov. Persons registered will be called on during the public listening session to share their views for up to five minutes, depending on number of registrants. Written comments are also invited and may be emailed to bhaliti@tva.gov.

The DFO of the Tennessee Valley Authority and Vice President of Valley Engagement and Support, Melanie Farrell, having reviewed and approved this document, is delegating the authority to sign this document to Bekim Haliti, Specialist of Valley Alliances for publication in the Federal Register.

Dated: September 13, 2024.
Bekim Haliti,
Specialist, Valley Alliances, Tennessee Valley Authority.

[FR Doc. 2024-21234 Filed 9-17-24; 8:45 am]

BILLING CODE 8120-08-P